DEPARTMENT OF ENERGY

Federal Energy Regulatory Commission

Docket Nos. RP07-581-000; RP07-580-000; RP07-582-000; RP07-583-000; RP07-587-000; RP07-589-000; RP07-586-000; RP07-584-000; RP07-585-000

Enbridge Pipelines (AlaTenn) L.L.C.; Enbridge Pipelines (KPC); Enbridge Pipelines (Midla) L.L.C.; Garden Banks Gas Pipeline, LLC; Iroquois Gas Transmission System, L.P.; Kern River Gas Transmission Company; Mississippi Canyon Gas Pipeline, LLC; Nautilus Pipeline Company, L.L.C.; Stingray Pipeline Company; Notice of Proposed Change in FERC Gas Tariff

August 21, 2007.

Take notice that the above-referenced pipelines tendered for filing their tariff sheets respectively, pursuant to section 154.402 of the Federal Energy Regulatory Commission's (Commission) Regulations to reflect the Commission's change in the unit rate for the Annual Charge Adjustment (ACA) surcharge to be applied to rates for recovery of 2007 Annual Charges pursuant to Order No. 472, in Docket No. RM87-3-000. The proposed effective date of the tariff sheets is October 1, 2007.

The above-referenced pipelines state that the purpose of their filings is to reflect the revised ACA effective for the twelve-month period beginning October 1, 2007. The pipelines state that their tariff sheets reflect an increase of $.0003 per Dth from $.0016 per Dth in the ACA adjustment surcharge, resulting in a new ACA rate of $.0019 Dth as specified by the Commission in its invoice dated June 28, 2007 for the Annual Charge Billing—Fiscal Year 2007.

Any person desiring to intervene or to protest this filing must file in accordance with Rules 211 and 214 of the Commission's Rules of Practice and Procedure (18 CFR 385.211 and 385.214). Protests will be considered by the Commission in determining the appropriate action to be taken but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

Any person desiring to become a party in any of the listed dockets must file a separate motion to intervene in each docket for which they wish party status.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern time, August 28, 2007.

Kimberly D. Bose,
Secretary.

[FR Doc. E7-16952 Filed 8-27-07; 8:45 am]

BILLING CODE 6717-01-P